DEPARTMENT OF COMMERCE

International Trade Administration

[A-583-830]

Stainless Steel Plate in Coils from Taiwan; Rescission of Antidumping Duty Administrative Review

AGENCY: Import Administration, International Trade Administration, Department of Commerce.

EFFECTIVE DATE: September 9, 2005.

FOR FURTHER INFORMATION CONTACT: Elizabeth Eastwood or Nichole Zink, AD/CVD Operations, Office 2, Import Administration, International Trade Administration, U.S. Department of Commerce, 14th Street and Constitution Avenue, NW, Washington, DC 20230; telephone: (202) 482-3874 and (202) 482-0049, respectively.

SUPPLEMENTARY INFORMATION:

Background

On May 2, 2005, the Department published in the Federal Register a notice of opportunity to request an administrative review of the antidumping order regarding stainless steel plate in coils from Taiwan for the period May 1, 2004, through April 30, 2005. See Antidumping or Countervailing Duty Order, Finding, or Suspended Investigation; Opportunity to Request Administrative Review, 70 FR 22631. On May 31, 2005, in accordance with 19 CFR 351.213(b)(1) of the Department of Commerce's (the Department's) regulations, the petitioners¹ requested a review of the antidumping duty order on stainless steel plate in coils from Taiwan.

¹ The petitioners in this proceeding are Allegheny Ludlum Corp. and United Steelworkers of America.

In June 2005, the Department initiated an administrative review for the following companies: Chain Chin Industrial Co., Ltd.; Chang Mien Industries Co., Ltd.; Chien Shing Stainless Co., Ltd.; China Steel Corporation; East Tack Enterprise Co., Ltd.; Emerdex Stainless Steel Flat Roll Products, Inc.; Emerdex Stainless Steel, Inc.; Emerdex Group, Goang Jau Shing Enterprise Co., Ltd.; PFP Taiwan Co., Ltd.; Shing Shong Ta Metal Ind. Co., Ltd.; Sinkang Industries, Ltd.; Ta Chen Stainless Pipe Co., Ltd.; Tang Eng Iron Works; Yieh Loong Enterprise Co., Ltd. (also known as Chung Hung Steel Co., Ltd.); Yieh Mau Corporation; Yieh Trading Co.; and Yieh United Steel Corporation, and issued questionnaires to them. See Initiation of Antidumping and Countervailing Duty Administrative Reviews, 70 FR 37749 (Jun. 30, 2005).

On August 11, 2005, the petitioners withdrew their request for review.

Rescission of Review

The petitioners withdrew their request for an administrative review for the above-referenced period within the time limits set forth in 19 CFR 351.213(d)(1). Therefore, because no other interested party requested a review, in accordance with 19 CFR 351.213(d)(1) and consistent with our practice, we are rescinding this review of the antidumping duty order on stainless steel plate in coils from Taiwan for the period of May 1, 2004, through April 30, 2005.

This notice is published in accordance with section 751 of the Tariff Act of 1930, as amended, and 19 CFR 351.213(d)(4).

Dated: September 2, 2005.
Barbara E. Tillman,
Acting Deputy Assistant Secretary Import Administration.

[FR Doc. E5-4938 Filed 9-8-05; 8:45 am]

BILLING CODE 3510-DS-S